DEPARTMENT OF ENERGY

Federal Energy Regulatory Commission

[Project No. 7189-015]

Green Lake Water Power Company; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: Subsequent Minor License.

b. Project No.: 7189-015.

c. Date Filed: March 31, 2022.

d. Applicant: Green Lake Water Power Company (Green Lake Power).

e. Name of Project: Green Lake Hydroelectric Project (project).

f. Location: On Green Lake and Reeds Brook in Hancock County, Maine. The project occupies approximately two acres of the U.S. Fish and Wildlife Service's Green Lake National Fish Hatchery.

g. Filed Pursuant to: Federal Power Act, 16 U.S.C. 791(a)-825(r).

h. Applicant Contact: Caroline Kleinschmidt, Green Lake Water Power Company, 120 Hatchery Way, Ellsworth, ME 04605; Phone at (207) 667-3322; or email at caroline@greenlakewaterpower.com.

i. FERC Contact: Arash Barsari at (202) 502-6207, or Arash.JalaliBarsari@ferc.gov.

j. Deadline for filing motions to intervene and protests, comments, recommendations, preliminary terms and conditions, and preliminary fishway prescriptions: 60 days from the issuance date of this notice; reply comments are due 105 days from the issuance date of this notice.

The Commission strongly encourages electronic filing. Please file motions to intervene and protests, comments, recommendations, preliminary terms and conditions, and preliminary fishway prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-7189-015.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The existing Green Lake Project consists of: (1) a 272.2-foot-long, 7.5-foot-high dam that includes: (a) an 83-foot-long concrete-gravity section with a 79.8-foot-long spillway that has a crest elevation of 160.7 feet National Geodetic Vertical Datum of 1929 (NGVD 29), and is topped with a 2-foot-high fish screen; (b) a 12-foot-long concrete intake structure with a 4.5-foot-wide, 4.5-foot-high sluice gate equipped with an 8-foot-wide, 12-foot-high trashrack with a 1-inch clear bar spacing; (c) a 20.2-foot-long concrete gate structure with two approximately 6-foot-wide, 7-foot-high sluice gates, each equipped with a vertical lift, fish screen with an approximately 0.75-inch mesh size; and (d) a 157-foot-long section that includes: (i) a 35.5-foot-long auxiliary spillway with a crest elevation of 161.5 feet NGVD 29; (ii) a 71-foot-long auxiliary spillway with a crest elevation of 163.4 feet NGVD 29; and (iii) a 50.5-foot-long auxiliary spillway with a crest elevation of 163.8 feet NGVD 29; (2) an impoundment (Green Lake) with a surface area of 2,989 acres at an elevation of 160.7 feet NGVD 29; (3) an approximately 92-foot-long concrete channel that conveys flows from the spillway to Reeds Brook; (4) a 1,744-foot-long penstock; (5) a 27-foot-long, 35-foot-wide concrete powerhouse containing a 400-kilowatt (kW) Allis-Chalmers tube turbine-generator unit and a 25-kW centrifugal pump turbine-generator unit, for a total installed capacity of 425 kW; (6) a 35.38-foot-long, 5-foot-diameter discharge pipe and a 42.25-foot-long, 5-foot-diameter discharge pipe from the powerhouse; (7) a 4.8/12.47-kilovolt (kV) step-up transformer and a 650-foot-long, 12.47-kV underground transmission line that connects the generators to the regional grid; and (8) appurtenant facilities. The project creates an approximately 1,900-foot-long bypassed reach of Reeds Brook.

The current license requires Green Lake Power to: (1) maintain the elevation of Green Lake between 159.7 feet and 160.7 feet NGVD 29 from June 1 through Labor Day weekend each year, and between 157.5 feet and 160.7 feet NGVD 29 for the remainder of the year; (2) complete the fall drawdown of Green Lake by October 15 of each year; (3) reduce the elevation of Green Lake during the spring drawdown to no lower than the elevation attained on the previous October 15 of each year; and (4) release a year-round minimum flow to Reeds Brook of one cubic foot per second (cfs), or inflow to Green Lake, whichever is less, for the protection and enhancement of fish and wildlife resources downstream of the dam. In addition, the current license requires Green Lake Power to provide flows of up to 30 cfs to the FWS's Green Lake National Fish Hatchery.

The current license also requires Green Lake Power to install screens at the project intake to protect fish from turbine entrainment and prevent out-migration of adult salmonids from Green Lake.

The average annual generation of the project was approximately 1,657.8 megawatt-hours from 2016 through 2020.

Green Lake Power proposes to modify the trashrack structure to reduce a gap on the side of the trashrack from 2 inches to 1 inch. Green Lake Power is not proposing any changes to project operation.

m. A copy of the application can be viewed on the Commission's website at https://www.ferc.gov using the “eLibrary” link. Enter the docket number excluding the last three digits in the docket number field to access the document. For assistance, contact FERC Online Support. At this time, the Commission has suspended access to the Commission's Public Reference Room due to the proclamation declaring a National Emergency concerning the Novel Coronavirus Disease (COVID-19), issued by the President on March 13, 2020. For assistance, contact FERC at FERCOnlineSupport@ferc.gov or call toll free, (886) 208-3676 or TTY (202) 502-8659.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must: (1) bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions, or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

You may also register online at https://ferconline.ferc.gov/FERCOnline.aspx to be notified via email of new filings and issuances related to this or other pending projects. For assistance, contact FERC Online Support.

o. The applicant must file no later than 60 days following the date of issuance of this notice: (1) a copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

p. Procedural schedule: The application will be processed according to the following preliminary schedule. Revisions to the schedule will be made as appropriate.

Milestone | Target date
Deadline for filing interventions, protests, comments, recommendations, preliminary terms and conditions, and preliminary fishway prescriptions | May 2023.
Deadline for filing reply comments | July 2023.

q. Final amendments to the application must be filed with the Commission no later than 30 days from the issuance date of this notice.

Dated: March 23, 2023.
Debbie-Anne A. Reese,
Deputy Secretary.

[FR Doc. 2023-06518 Filed 3-28-23; 8:45 am]

BILLING CODE 6717-01-P